DEPARTMENT OF COMMERCE

National Oceanic and Atmospheric Administration

[I.D. 031301D]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet April 1 through April 6, 2001. The Council meeting will begin on Tuesday, April 3, at 8 a.m., reconvening each day through Friday. All meetings are open to the public, except a closed session will be held from 8 a.m. until 8:30 a.m. on Tuesday, April 3 to address litigation and personnel matters. The Council will meet as late as necessary each day to complete its scheduled business.

ADDRESSES: The meetings will be held at the Red Lion’s Sacramento Inn, 1401 Arden Way, Sacramento, CA 95815; telephone: 916-922-8041.

Council address: Pacific Fishery Management Council, 2130 SW Fifth Avenue, Suite 224, Portland, OR 97201.

FOR FURTHER INFORMATION CONTACT: Dr. Donald O. McIsaac, Executive Director, Pacific Fishery Management Council; telephone: (503) 326-6352.

SUPPLEMENTARY INFORMATION: The following items are on the Council agenda, but not necessarily in this order:

A. Call to Order

1. Opening Remarks, Introductions,

2. Roll Call

3. Executive Director’s Report

4. Approve Agenda

5. Approve November Meeting Minutes

B. Salmon Management

1. Report on Federal Regulation Implementation

2. Identification of Stocks Not Meeting Escapement Goals for Three Consecutive Years

3. Methodology Reviews for 2001

4. Tentative Adoption of 2001 Ocean Salmon Management Measures for Analysis

5. Clarify Council Direction on 2001 Management Measures

6. Final Action on 2001 Measures

7. Clarification of Final Action on 2001 Measures

C. Groundfish Management

1. Status of NMFS Regulatory and Other Nonregulatory Activities

2. Exempted Fishing Permit Applications

3. Groundfish Strategic Plan Implementation

4. Future Groundfish Management Process and Schedule

5. Status of Fisheries and Consideration of Inseason Adjustments

6. Discard Adjustment for Bocaccio and Lingcod

7. Rebuilding Plan Status Report

8. Observer Program

9. Bycatch Full Retention Options

10. Reconsideration of 1997 Huntington Flats Decision

D. Habitat Issues

Council Letters of Comment on External EFH Issues

E. Coastal Pelagic Species Management

1. Status of NMFS Regulatory and Nonregulatory Activities

2. Review Capacity Goal and Related Issues

3. Update on Squid MSY Methodologies Workshop

F. Marine Reserves

Channel Island National Marine Sanctuary Program (CINMSP)

G. Pacific Halibut Management

Proposed 2001 Incidental Catch Regulations for the Troll Salmon Fishery and Sablefish Longline Fishery North of Point Chehalis

H. Administrative and Other Matters

1. Appointments to Council Advisory Bodies or Ad-Hoc Positions

2. Council Staff Workload Priorities

3. June 2001 Council Meeting Agenda

SCHEDULE OF ANCILLARY MEETINGS
SUNDAY, APRIL 1, 2001 |
Groundfish Management Team | 2:30 p.m.
Klamath Fishery Management | 3 p.m.
MONDAY, APRIL 2, 2001 |
Council Secretariate | 7 a.m.
Salmon Advisory Subpanel | 8 a.m.
Scientific and Statistical Committee | 8 a.m.
Salmon Technical Team | 8 a.m.
Habitat Steering Group | 9 a.m.
Budget Committee | 9 a.m.
Groundfish Advisory Subpanel | 9:30 a.m.
Groundfish Management Team | As necessary
Klamath Fishery Management | As necessary
Tribal Policy Meetings | As necessary
Tribal and Washington | As necessary
TUESDAY, APRIL 3, 2001 |
Council Secretariate | 7 a.m.
California State Delegation | 7 a.m.
Oregon State Delegation | 7 a.m.
Washington State Delegation | 7 a.m.
Groundfish Advisory Subpanel | 8 a.m.
Scientific and Statistical Committee | 8 a.m.
Groundfish Management Team | As necessary
Klamath Fishery Management Council | As necessary
Salmon Advisory Subpanel | As necessary
Salmon Technical Team | As necessary
Tribal Policy Meetings | As necessary
Tribal and Washington | As necessary
Enforcement Consultants | 5:30 p.m.
WEDNESDAY, APRIL 4, 2001 |
Council Secretariate | 7 a.m.
California State Delegation | 7 a.m.
Oregon State Delegation | 7 a.m.
Washington State Delegation | 7 a.m.
Groundfish Advisory Subpanel | As necessary
Groundfish Management Team | As necessary
Klamath Fishery Management | As necessary
Salmon Advisory Subpanel | As necessary
Salmon Technical Team | As necessary
Tribal Policy Meetings | As necessary
Tribal and Washington | As necessary
Enforcement Consultants | As necessary
THURSDAY, APRIL 5, 2001 |
Council Secretariate | 7 a.m.
California State Delegation | 7 a.m.
Oregon State Delegation | 7 a.m.
Washington State Delegation | 7 a.m.
Groundfish Management Team | As necessary
Klamath Fishery Management | As necessary
Salmon Advisory Subpanel | As necessary
Salmon Technical Team | As necessary
Tribal Policy Meetings | As necessary
Tribal and Washington | As necessary
Enforcement Consultants | As necessary
FRIDAY, APRIL 6, 2001 |
Council Secretariate | 7 a.m.
California State Delegation | 7 a.m.
Oregon State Delegation | 7 a.m.
Washington State Delegation | 7 a.m.
Klamath Fishery Management | As necessary
Salmon Advisory Subpanel | As necessary
Salmon Technical Team | As necessary
Tribal Policy Meetings | As necessary
Tribal and Washington | As necessary
Enforcement Consultants | As necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326-6352 at least 5 days prior to the meeting date.

Dated: March 13, 2001.
Richard W. Surdi,
Acting Director, Office of Sustainable Fisheries, National Marine Fisheries Service.

[FR Doc. 01-6624 Filed 3-13-01; 4:24 pm]

BILLING CODE 3510-22-S